DEPARTMENT OF AGRICULTURE

Agricultural Marketing Service

7 CFR Part 52

[Document Number AMS-FV-07-0100, FV-11-327]

United States Standards for Grades of Frozen Okra

AGENCY: Agricultural Marketing Service, USDA.

ACTION: Notification.

SUMMARY: The Agricultural Marketing Service (AMS) of the Department of Agriculture (USDA) has revised the United States Standards for Grades of Frozen Okra. The grade standards for frozen okra have been changed from a “variables score point” system to an “individual attributes” grading system. The “dual grade nomenclature” has been replaced with single letter grade designations and editorial changes were made. These changes bring the United States Standards for Grades of Frozen Okra in line with the present quality levels being marketed today and provide guidance in the effective utilization of frozen okra.

DATES: Effective Date: November 16, 2011.

FOR FURTHER INFORMATION CONTACT: Brian E. Griffin, Inspection and Standardization Branch, Processed Products Division, Fruit and Vegetable Programs, Agricultural Marketing Service, U.S. Department of Agriculture, 1400 Independence Avenue SW., Room 0709, South Building; STOP 0247, Washington, DC 20250; fax: (202) 690-1527; or Internet: http://www.regulations.gov. The United States Standards for Grades of Frozen Okra are available through the address cited above and on the AMS Web site at http://www.ams.usda.gov/AMSv1.0/processedinspection.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official grade standards available upon request. Those voluntary United States Standards for Grades of Fruits and Vegetables no longer appear in the Code of Federal Regulations, 7 CFR part 52, but are maintained by USDA, AMS, Fruit and Vegetable Programs. AMS is revising the U.S. Standards for Grades of Frozen Okra using the procedures that appear in part 36 of Title 7 of the Code of Federal Regulations (7 CFR part 36).

Background

AMS received a petition from the American Frozen Food Institute (AFFI) requesting the revision of the United States Standards for Grades of Frozen Okra. The petitioners represent almost all of the processors of frozen okra in the United States. The grade standards were based on the variable score points grading system.

Prior to undertaking research and other work associated with revising the grade standards, AMS sought public comments on the petition (see 64 FR 52266). A notice requesting additional comments on the proposed revision to the United States Standards for Grades of Frozen Okra was published in the December 12, 2007, Federal Register (72 FR 70565). At the request of AFFI, a notice reopening and extending the comment period was published in the May 16, 2008, Federal Register (73 FR 28424). A 60 day period was provided for interested persons to submit comments on the proposed grade standards. Several discussion drafts circulated between September 2008 and February 2011. A request for comment on the proposed revised United States Standards for Grades of Frozen Okra was published in the June 2, 2011 Federal Register (76 FR 31887). No comments were received in regard to this request.

The revision of the United States Standards for Grades of Frozen Okra provides common language for trade and better reflects the current marketing of frozen okra. The official grade of a lot of frozen okra covered by these grade standards is determined by the procedures set forth in the “Regulations Governing Inspection and Certification of Processed Products Thereof, and Certain Other Processed Food Products (§ 52.1 to 52.83).”

Authority: 7 U.S.C. 1621-1627.

Dated: October 4, 2011.
David R. Shipman,
Acting Administrator, Agricultural Marketing Service.

[FR Doc. 2011-26045 Filed 10-14-11; 8:45 am]

BILLING CODE 3410-02-P